DEPARTMENT OF COMMERCE

National Oceanic and Atmospheric Administration

RIN 0648-XE448

Notice of Availability of a Draft Environmental Assessment for Oil and Gas Activities in Cook Inlet, Alaska in 2016

AGENCY: National Oceanic and Atmospheric Administration (NOAA), Commerce.

ACTION: Notice of availability; request for comments.

SUMMARY: The National Marine Fisheries Services announces the availability of a Draft Environmental Assessment (EA) to analyze the environmental impacts of issuing annual Incidental Take Authorizations (ITAs) pursuant to the Marine Mammal Protection Act (MMPA) for the taking of marine mammals incidental to oil and gas activities in Cook Inlet, AK during 2016. The Draft EA is available for review and comment at: http://www.nmfs.noaa.gov/pr/permits/incidental/energy_other.htm.

DATES: Comments and information must be received no later than March 28, 2016.

ADDRESSES: Comments on the Draft EA should be addressed to Jolie Harrison, Chief, Permits and Conservation Division, Office of Protected Resources, National Marine Fisheries Service, 1315 East-West Highway, Silver Spring, MD 20910. The mailbox address for providing email comments is itp.young@noaa.gov. Comments sent via email, including all attachments, must not exceed a 25-megabyte file size. NMFS is not responsible for comments sent to addresses other than those provided here.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

An electronic copy of the Draft EA may be obtained by writing to the address specified above, telephoning the contact listed below (see FOR FURTHER INFORMATION CONTACT), or visiting the internet at: http://www.nmfs.noaa.gov/pr/permits/incidental.htm.

FOR FURTHER INFORMATION CONTACT: Sara Young, Office of Protected Resources, NMFS, (301) 427-8484.

SUPPLEMENTARY INFORMATION: On August 12, 2015, NMFS published a Notice of Intent to prepare a Programmatic Environmental Assessment on the Issuance of Incidental Take Authorizations in Cook Inlet, Alaska in 2016 (80 FR 48299), to help NMFS assess the effects of multiple one-year incidental take authorizations and consider mitigation and monitoring measures in the context of the multiple activities. In furtherance of that goal NMFS requested applicants for ITAs to submit their applications by October 1 of the year preceding the requested ITA year. NMFS received applications for ITAs from ExxonMobil Alaska LNG LLC (see 81 FR 6376, February 5, 2016) (Notice of Proposed Incidental Harassment Authorization); SAExploration Inc.; and BlueCrest Alaska Operating LLC. Potential impacts from these actions are assessed in the Draft EA available at the above web address.

On February 5, 2016, NMFS published a Proposed Issuance of an Incidental Take Authorization for ExxonMobil Alaska LNG LLC (see 81 FR 6376, February 5, 2016), which stated that the Draft EA would be available for review concurrently with the proposed Authorization. The Draft EA was not available for the majority of the public comment period of the proposed Authorization. Due to the delay in making the Draft EA publically available, NMFS will be accepting public comment on the Draft EA until March 28, 2016.

Dated: March 3, 2016.
Perry F. Gayaldo,
Deputy Director, Office of Protected Resources, National Marine Fisheries Service.

[FR Doc. 2016-05236 Filed 3-8-16; 8:45 am]

BILLING CODE 3510-22-P